DEPARTMENT OF COMMERCE

Foreign-Trade Zones Board

[B-40-2019]

Foreign-Trade Zone (FTZ) 100—Dayton, Ohio; Authorization of Limited Production Activity; Whirlpool Corporation (Small Appliances); Greenville, Ohio

On June 19, 2019, Whirlpool Corporation submitted a notification of proposed production activity to the FTZ Board for its facility within FTZ 100, in Greenville, Ohio.

The notification was processed in accordance with the regulations of the FTZ Board (15 CFR part 400), including notice in the Federal Register inviting public comment (84 FR 31021, June 28, 2019). On October 17, 2019, the applicant was notified of the FTZ Board's decision that further review of part of the proposed activity is warranted. The FTZ Board authorized the production activity described in the notification on a limited basis, subject to the FTZ Act and the Board's regulations, including Section 400.14, and further subject to a restriction requiring that non-woven cotton cloth bags be admitted to the subzone in privileged foreign status (19 CFR 146.41). Given the applicant's commitment in its notification, the following components must also be admitted to the subzone in privileged foreign status: Cotton cloth covers not knitted or crocheted; cotton cloth covers; cloth covers; and, lithium-ion batteries.

Dated: October 17, 2019.
Andrew McGilvray,
Executive Secretary.

[FR Doc. 2019-23351 Filed 10-24-19; 8:45 am]

BILLING CODE 3510-DS-P